DEPARTMENT OF COMMERCE

International Trade Administration

North American Free-Trade Agreement (NAFTA), Article 1904 Binational Panel Reviews

AGENCY: NAFTA Secretariat, United States Section, International Trade Administration, Department of Commerce.

ACTION: Notice of Decision of Panel.

SUMMARY: On March 22, 2007, the binational panel issued its decision in the review of the final determination made by the International Trade Commission, respecting Oil Country Tubular Goods from Mexico Final Results of the Sunset Review, Secretariat File No. USA-MEX-2001-1904-06. The binational panel affirmed the Commission's Sunset Review Determination. Copies of the panel decision are available from the U.S. Section of the NAFTA Secretariat.

FOR FURTHER INFORMATION CONTACT: Caratina L. Alston, United States Secretary, NAFTA Secretariat, Suite 2061, 14th and Constitution Avenue, NW., Washington, DC 20230, (202) 482-5438.

SUPPLEMENTARY INFORMATION: Chapter 19 of the North American Free-Trade Agreement (“Agreement”) establishes a mechanism to replace domestic judicial review of the final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686). The panel review in this matter has been conducted in accordance with these Rules.

Panel Decision: The Panel affirmed the Commission's determination and instructed the Secretariat to issue a Notice of Final Panel Action at the appropriate time under the NAFTA Panel Rule 77(1).

Dated: March 23, 2007.
Caratina L. Alston,
United States Secretary, NAFTA Secretariat.

[FR Doc. E7-5742 Filed 3-28-07; 8:45 am]

BILLING CODE 3510-GT-P